ENVIRONMENTAL PROTECTION AGENCY

[FRL-8442-2]

Public Water System Supervision Program Revisions for the State of Wisconsin

AGENCY: Environmental Protection Agency (EPA).

ACTION: Notice of tentative approval.

SUMMARY: Notice is hereby given that the State of Wisconsin is revising its approved Public Water System Supervision Program. Wisconsin has adopted the Arsenic Rule for all community and nontransient, noncommunity water systems which, among other things, changes the arsenic maximum contaminant level from 0.050 mg/L to 0.010 mg/L to improve public health by reducing exposure to arsenic in drinking water.

EPA has determined that these revisions are no less stringent than the corresponding federal regulations. Therefore, EPA intends to approve these program revisions. This approval action does not extend to public water systems (PWSs) in Indian Country, as that term is defined in 18 U.S.C. 1151. By approving these rules, EPA does not intend to affect the rights of federally recognized Indian tribes in Wisconsin, nor does it intend to limit existing rights of the State of Wisconsin.

All interested parties may request a public hearing. A request for a public hearing must be submitted by August 20, 2007, to the Regional Administrator at the EPA Region 5 address shown below. Frivolous or insubstantial requests for a hearing may be denied by the Regional Administrator. However, if a substantial request for a public hearing is made by August 20, 2007, a public hearing will be held.

If no timely and appropriate request for a hearing is received and the Regional Administrator does not elect to hold a hearing on her own motion, this determination shall become final and effective on August 20, 2007.

Any request for a public hearing shall include the following information: The name, address, and telephone number of the individual, organization, or other entity requesting a hearing; a brief statement of the requesting person's interest in the Regional Administrator's determination and a brief statement of the information that the requesting person intends to submit at such hearing; and the signature of the individual making the request, or, if the request is made on behalf of an organization or other entity, the signature of a responsible official of the organization or other entity.

ADDRESSES: All documents relating to this determination are available for inspection between the hours of 7:45 a.m. and 4:30 p.m., Monday through Friday, at the following offices: Wisconsin Department of Natural Resources, DG-2, 2nd Floor, 101 South Webster, PO Box 921, Madison, Wisconsin, 53707, and the United States Environmental Protection Agency, Region 5, Ground Water and Drinking Water Branch (WG-15J), 77 West Jackson Boulevard, Chicago, Illinois 60604.

FOR FURTHER INFORMATION CONTACT: Joe Janczy, EPA Region 5, Ground Water and Drinking Water Branch, at the address given above, by telephone at (608) 267-2763, or at janczy.joseph@epa.gov.

Authority: (Sec. 1413 of the Safe Drinking Water Act, as amended, 42 U.S.C. 3006-2 (1996), and 40 CFR Part 142 of the National Primary Drinking Water Regulations).

Dated: July 2, 2007.
Walter Kovalick,
Acting Regional Administrator, Region 5.

[FR Doc. E7-14065 Filed 7-19-07; 8:45 am]

BILLING CODE 6560-50-P